DEPARTMENT OF THE INTERIOR

Geological Survey

Agency Information Collection Activities: Submitted for Office of Management and Budget (OMB) Review; Comment Request

AGENCY: U.S. Geological Survey (USGS), Interior.

ACTION: Notice of a proposed new information collection and request for comments.

SUMMARY: To comply with the Paperwork Reduction Act of 1995 (PRA), we are notifying the public that we have submitted to OMB a new information collection request (ICR) for approval of the paperwork requirements for the Study on Arsenic and Uranium in Bedrock Wells of East Central Massachusetts (MASSWELL).

DATES: You must submit comments on or before February 9, 2009.

ADDRESSES: Please submit comments on this information collection directly to the Office of Management and Budget (OMB) Office of Information and Regulatory Affairs, Attention: Desk Officer for the Department of Interior via e-mail [OIRA_DOCKET@omb.eop.gov]; or fax (202)395-6566; and identify your submission as 1028-NEW. Please also submit a copy of your comments to Phadrea Ponds, USGS Information Collection Clearance Officer, 2150-C Center Avenue, Fort Collins, CO 80525 (mail); (970)226-9230 (fax); or pponds@usgs.gov (e-mail). Please reference Information Collection 1028-NEW, MASSWELL in the subject line.

FOR FURTHER INFORMATION PLEASE CONTACT: John A. Colman, U.S. Geological Survey, 10 Bearfoot Road, Northborough, Massachusetts 01532 (mail); at 508-490-5027 (telephone); or jacolman@usgs.gov (e-mail).

SUPPLEMENTARY INFORMATION: Title: Study on Arsenic and Uranium in Bedrock Wells of East Central Massachusetts.

OMB Control Number: 1028-NEW.

Abstract: The U.S. Geological Survey (USGS) and the Massachusetts Department of Environmental Protection (MDEP) are conducting the study with assistance of staff from the Massachusetts Department of Public Health, Bureau of Environmental Health (MDPH/BEH) to assess: (1) The number of private wells containing raw-water concentrations of arsenic or uranium that are greater than the current drinking water standards and (2) the degree to which bedrock units can be associated with concentrations of uranium and arsenic. This information will help guide future water-supply development and well-water testing. It will tell local health officials where the areas of concern are in their communities, and provide background concentrations by rock type for use in identifying contamination from human sources.

We will protect information from respondents considered proprietary under the Freedom of Information Act (5 U.S.C. 552) and implementing regulations (43 CFR Part 2), and under regulations at 30 CFR 250.197, “Data and information to be made available to the public or for limited inspection.” Responses are voluntary. No questions of a “sensitive” nature are asked.

Affected Public: Individual and household residents.

Respondent Obligation: Voluntary.

Frequency of Collection: One-time collection.

Estimated Number and Description of Respondents: 1000 private well owners in East Central Massachusetts.

Estimated Number of Annual Responses: 800.

Estimated Annual Burden Hours: Approximately 133 hours.

Estimated Annual Reporting and Recordkeeping “Hour” Burden: In the August 27, 2008 FR Notice (73 FR 50641) we estimated that the time to take the survey and collect the water sample would be 30 minutes. Based on peer-reviewer comments we have revised the estimated burden for this collection to be approximately 5 minutes to take the survey and 5 minutes to locate and collect the water needed for the sample. The total estimate is now 10 minutes per response.

Estimated Reporting and Recordkeeping “Non-Hour Cost” Burden: There are no “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

USGS Information Collection Clearance Officer: Phadrea D. Ponds 970-226-9445.

Dated: December 3, 2008.
Peter K. Weiskel,
Associate Director, USGS Massachusetts-Rhode Island Water Science Center.

[FR Doc. E9-180 Filed 1-8-09; 8:45 am]

BILLING CODE 4311-AM-P